DEPARTMENT OF DEFENSE

GENERAL SERVICES ADMINISTRATION

NATIONAL AERONAUTICS AND SPACE ADMINISTRATION

[OMB Control No. 9000-0089; Docket No. 2017-0053; Sequence 3]

Information Collection; Request for Authorization of Additional Classification and Rate, Standard Form 1444

Correction

In notice document 2017-08670 appearing on pages 20340-20341 in the issue of May 1, 2017, make the following correction:

On page 20341, in the second column, under the heading B. Annual Reporting Burden, the fourth line down, “Review time per response: 5.” should read “Review time per response: .5.”.

[FR Doc. C1-2017-08670 Filed 7-13-17; 8:45 am]

BILLING CODE 1301-00-D